DEPARTMENT OF THE TREASURY

United States Mint

Pricing for the 2017 American Liberty 225th Anniversary Gold Coin

AGENCY: United States Mint, Department of the Treasury

ACTION: Notice.

SUMMARY: The United States Mint announces the price of the 2017 American Liberty 225th Anniversary Gold Coin.

2017 American Liberty 225th Anniversary Gold Coin
Weekly average gold price | Size (troy ounce) | Price
$1,000.00 to $1,049.99 | 1 | $1,440.00
$1,050.00 to $1,099.99 | 1 | 1,490.00
$1,100.00 to $1,149.99 | 1 | 1,540.00
$1,150.00 to $1,199.99 | 1 | 1,590.00
$1,200.00 to $1,249.99 | 1 | 1,640.00
$1,250.00 to $1,299.99 | 1 | 1,690.00
$1,300.00 to $1,349.99 | 1 | 1,740.00
$1,350.00 to $1,399.99 | 1 | 1,790.00
$1,400.00 to $1,449.99 | 1 | 1,840.00
$1,450.00 to $1,499.99 | 1 | 1,890.00
$1,500.00 to $1,549.99 | 1 | 1,940.00
$1,550.00 to $1,599.99 | 1 | 1,990.00
$1,600.00 to $1,649.99 | 1 | 2,040.00
$1,650.00 to $1,699.99 | 1 | 2,090.00

The full 2017 Pricing of Numismatic Gold, Commemorative Gold, and Platinum Products grid is located at www.usmint.gov.

Pricing can vary weekly dependent upon the London Bullion Market Association (LBMA) Gold Price weekly average. The pricing for all United States Mint numismatic gold and platinum products is evaluated every Wednesday and is modified as necessary.

FOR FURTHER INFORMATION CONTACT: Jason Laurie, Program Manager; Numismatic and Bullion Directorate; United States Mint; 801 9th Street NW.; Washington, DC 20220; or call 202-354-7500.

Authority: 31 U.S.C. 5111, 5112, and 9701.

Dated: February 27, 2017.
David Motl,
Acting Principal Deputy Director, United States Mint.

[FR Doc. 2017-04135 Filed 3-2-17; 8:45 am]

BILLING CODE P